DEPARTMENT OF VETERANS AFFAIRS

Solicitation of Nominations for Appointment to the Research Advisory Committee on Gulf War Veterans' Illnesses

AGENCY: Department of Veterans Affairs.

ACTION: Notice of nominations for appointment to the Research Advisory Committee on Gulf War Veterans' Illnesses.

SUMMARY: The Department of Veterans Affairs (VA) is seeking nominations of qualified candidates to be considered for appointment to the Research Advisory Committee on Gulf War Veterans' Illnesses (RACGWVI) (hereinafter in this section referred to as “the Committee”).

DATES: Nominations for membership on the Committee must be received no later than 5:00 p.m. EST on March 1, 2024.

ADDRESSES: All nominations should be emailed to varacgwvi@va.gov. Please write Nomination for RACGWVI Membership in the subject line.

FOR FURTHER INFORMATION CONTACT: Dr. Karen Block, Designated Federal Officer, Gulf War Research Program, VA Office of Research and Development at Karen.Block@va.gov. A copy of the Committee charter and list of the current membership can be found at Research Advisory Committee on Gulf War Veterans' Illnesses website (https://www.va.gov/RAC-GWVI/) or by contacting Dr. Block on (202) 280-3632.

SUPPLEMENTARY INFORMATION: The Research Advisory Committee on Gulf War Veterans' Illnesses was established to provide advice and make recommendations to the Secretary of Veterans Affairs on proposed research studies, plans and strategies related to understanding and treating the health consequences of military service in the Southwest Asia theater of operations during the 1990-91 Gulf War (Operations Desert Shield and Desert Storm).

Membership Criteria and Qualifications: VA is requesting nominations for upcoming vacancies on the Committee and is committed to diversity, equity and inclusion. The committee is comprised of Government employees and non-Federal employees. Non-Federal employees are appointed by the Secretary from the general public and will serve as Special Government employees.

The expertise required of Committee membership includes, but is not limited to:

a. 1990-91 Gulf War Veterans and/or representatives of such Veterans;

b. Veterans of all eras;

c. Community leaders, professionals and other concerned stakeholders;

d. Members of the medical and scientific communities representing disciplines such as epidemiology, genetics, immunology, neurology, toxicology, dentistry, environmental health and justice, occupational and industrial hygiene; and

e. Experts in advanced medical and scientific technologies including artificial intelligence.

Membership Requirements: The Committee meets at least twice annually, and some members may have an opportunity to participate in additional subcommittee meetings. Individuals selected for appointment to the Committee shall be invited to serve a two to three- year term. The Secretary may reappoint Committee members for an additional term of service. Committee members will receive per diem and reimbursement for eligible travel expenses incurred. Self-nominations and nominations of non-Veterans will be accepted. Any letters of nomination from organizations or other individuals should accompany the package when it is submitted.

To the extent possible, the Secretary seeks members who have diverse professional and personal qualifications including but not limited to subject matter experts in the areas described above. We ask that nominations include any relevant experience information so that VA can ensure diverse Committee membership.

Requirements for Nomination Submission: Nominations must be typed (12 point font) and include:

(1) A letter of nomination that clearly states the name and affiliation of the nominee, the basis for the nomination (i.e., specific attributes which qualify the nominee for service in this capacity), and a statement from the nominee indicating that he/she is a U.S. citizen and is willing to serve as a member of the Committee;

(2) The nominee's contact information, including name, mailing address, telephone numbers, and email address;

(3) The nominee's resume or curriculum vitae that is no more than three pages in length. The resume should show professional work experience, and Veterans service involvement, especially service that involves 1990-91 Gulf War Veterans' issues; and

(4) A one-page cover letter. The cover letter must summarize:

a. the nominee's interest in serving on the committee and contributions he/she can make to the work of the committee;

b. any relevant Veterans service activities he/she is currently engaged in;

c. the military branch affiliations and timeframe of military service (if applicable);

d. information about the nominee's personal and professional qualifications and background that would give her/him a diverse perspective on Gulf War Veterans' matters; and

e. a statement confirming that he/she is not a Federally-registered lobbyist.

The Department makes every effort to ensure that the membership of VA Federal advisory committees is diverse in terms of points of view represented and the committee's capabilities. Appointments to this Committee shall promote diversity, equity and inclusion and will be made without discrimination because of a person's race, color, religion, sex, sexual orientation, gender identity, national origin, age, disability, or genetic information. Nominations must state that the nominee is willing to serve as a member of the Committee and appears to have no conflict of interest that would preclude membership.

Authorization: The Committee is authorized by Pub. L. 105-368 104, and operates under the Federal Advisory Committee Act, 5 U.S.C. ch. 10.

Dated: January 16, 2024.
LaTonya L. Small,
Federal Advisory Committee Management Officer.

[FR Doc. 2024-01065 Filed 1-22-24; 8:45 am]

BILLING CODE 8320-01-P